DEPARTMENT OF COMMERCE

International Trade Administration

[A-570-601]

Tapered Roller Bearings and Parts Thereof, Finished and Unfinished, From the People's Republic of China: Amended Final Results of Antidumping Administrative Review

AGENCY: Import Administration, International Trade Administration, Department of Commerce.

ACTION: Notice of final court decision and amended final results of administrative review.

SUMMARY: The United States Court of International Trade has affirmed the Department of Commerce's final remand results affecting the final weighted-average margins for the 1997-1998 administrative review of the antidumping duty order on tapered roller bearings and parts thereof, finished and unfinished, from the People's Republic of China. There was no appeal to the United States Court of Appeals for the Federal Circuit. As there is now a final and conclusive court decision in this case, we are amending the final results of review and we will instruct the U.S. Customs and Border Protection to liquidate entries subject to this review. The period of review is June 1, 1997, through May 31, 1998.

EFFECTIVE DATE: January 15, 2004.

FOR FURTHER INFORMATION CONTACT: S. Anthony Grasso or Andrew Smith, AD/CVD Enforcement Group I, Office 1, Import Administration, International Trade Administration, U.S. Department of Commerce, 14th Street and Constitution Avenue, NW., Washington, DC 20230; telephone: (202) 482-3853 or (202) 482-1276, respectively.

SUPPLEMENTARY INFORMATION:

Background

On November 15, 1999, the Department of Commerce (the “Department”) published the final results of administrative review of the antidumping duty order on tapered roller bearings and parts thereof, finished and unfinished (“TRB”), from the People's Republic of China covering the period June 1, 1997, through May 31, 1998. See Tapered Roller Bearings and Parts Thereof, Finished and Unfinished, From the People's Republic of China; Final Results of 1997-1998 Antidumping Duty Administrative Review and Final Results of New Shipper Review, 64 FR 61837 (November 15, 1999) (“Final Results”).

Luoyang Bearing Factory and the Timken Company contested the Department's decision in the Final Results. In issuing its decision in this case, the United States Court of International Trade (“CIT”) instructed the Department to exclude the category “consumption of traded goods” from the direct input costs used in the calculation of the surrogate overhead, profit, and SG&A ratios used in the Department's antidumping duty margin calculations.

The Department issued final results of redetermination pursuant to remand on December 30, 2002, and on July 14, 2003. The CIT affirmed the Department's final remand results and dismissed the case on October 27, 2003. See Luoyang Bearing Factory v. United States, Slip Op. 03-141 (CIT October 27, 2003). There was no appeal to the United States Court of Appeals for the Federal Circuit. As there is now a final and conclusive court decision in this action, we are amending our final results of review and we will instruct the U.S. Customs and Border Protection (“CBP”) to liquidate entries subject to this review.

Amendment to Final Results

Pursuant to section 516A(e) of the Tariff Act of 1930, as amended (the “Act”), we are now amending the final results of administrative review of the antidumping duty order of TRBs from the People's Republic of China for the period of review June 1, 1997, through May 31, 1998. In the Final Results, we established antidumping duty margins for Luoyang Bearing Factory (“Luoyang”) and Premier Bearing and Equipment, Ltd. (“Premier”). Accordingly, we are amending the antidumping duty margins for Luoyang and Premier consistent with those final results of redetermination pursuant to remand.

The revised weighted-average dumping margins for Luoyang and Premier are as follows:

Exporter/manufacturer | Weighted-average margin percentage
Luoyang Bearing Factory | 5.15
Premier Bearing and Equipment, Ltd. | 24.55

The Department will issue appraisement instructions directly to the CBP. The Department will instruct CBP to assess appropriate antidumping duties on the relevant entries of the subject merchandise covered by this review.

This notice is issued and published in accordance with section 751(a)(1) of the Act.

Dated: January 9, 2004.
James J. Jochum,
Assistant Secretary for Import Administration.

[FR Doc. 04-905 Filed 1-14-04; 8:45 am]

BILLING CODE 3510-DS-P